NATIONAL TRANSPORTATION SAFETY BOARD

Reaching Zero: Actions to Eliminate Substance-Impaired Driving Forum

The National Transportation Safety Board (NTSB) will convene a Public Forum to address Substance-Impaired Driving which will begin at 8:30 a.m., Tuesday, May 15, 2012. NTSB Chairman Deborah A.P. Hersman will chair the two-day forum and all five Board Members will participate. The forum is open to all and free to attend (there is no registration).

Substance-impaired driving kills over ten thousand Americans every year and injures many more. Over 90 percent of all transportation deaths occur on our roads and one-third of these fatalities involve impairment from alcohol or drugs.

Since the invention of the automobile, policymakers, law enforcement, safety activists, and communities have struggled with how to stop substance-impaired driving; and it has been a major NTSB concern for more than 40 years. The agency has conducted special safety studies and produced dozens of accident reports generating over 100 safety recommendations on the issue. However, the Board has not made a new recommendation on substance-impaired driving in a decade. During that time, traffic deaths from all causes have dropped, but the percentage of those killed by a substance-impaired driver has remained unchanged.

The forum will identify the most effective, data-driven, science-based actions needed to “reach zero” accidents resulting from substance-impaired driving. This includes taking a fresh look at the Board's previous work and assessing the need for updated or new safety recommendations. Panels will critically examine the knowledge, interventions, and public policy considerations needed to address this national safety problem aggressively.

All of these areas will be explored through expert panelists including representatives of federal, state, and local governments; leading researchers, law enforcement, the judiciary, industry, treatment experts, and advocacy groups. At the conclusion of all presentations for each topic area, presenters will take part in a question and answer discussion with Board Members and NTSB staff.

Below is the preliminary forum agenda:

Tuesday, May 15

—Welcome and Opening Remarks

—Session One: The Current State of Affairs

Panel One: The Substance

Panel Two: The Problem

—Session Two: Current Interventions

Panel Three: Education and Outreach

Panel Four: Enforcement

Panel Five: Consequences

Wednesday, May 16

—Session Three: Further Intervention Opportunities

Panel Six: Prevention

Panel Seven: International Perspective

—Session Four: Next Steps

Panel Eight: Actions Needed to Reach Zero

—Closing Remarks

A detailed agenda and list of participants will be released closer to the date of the event. The forum will be held in the NTSB Board Room and Conference Center, located at 429 L'Enfant Plaza SW., Washington, DC The public can view the forum in person or by Webcast at www.ntsb.gov.

Individuals requesting specific accommodations should contact Rochelle Hall at (202) 314-6305 by Friday, May 11, 2012.

NTSB Media Contact: Peter Knudson, 202-314-6100 (Washington, DC), Peter.Knudson@ntsb.gov.

NTSB Forum Manager: Danielle Roeber, 202-314-6436 (Washington, DC), roeberd@ntsb.gov.

Candi R. Bing,
Federal Register Liaison Officer.

[FR Doc. 2012-10603 Filed 5-1-12; 8:45 am]

BILLING CODE 7533-01-P